DEPARTMENT OF HEALTH AND HUMAN SERVICES

Administration for Children and Families

[CFDA Number: 93.612]

Announcement of the Award of an Emergency Single-Source Grant to the Louden Tribal Council in Galena, AK

AGENCY: Administration for Native Americans, ACF, HHS.

ACTION: Announcement of the award of an emergency single-source grant to Louden Tribal Council in Galena, AK, to rebuild tribal operations following a devastating flood and ice jams that occurred between May 17-June 11, 2013.

SUMMARY: The Administration for Children and Families (ACF), Administration for Native Americans (ANA) announces the award of an emergency single-source grant in the amount of $153,021 to the Louden Tribal Council in Galena, AK. The award will be made under ANA's program for Social and Economic Development Strategies.

DATES: The award will be issued for a project period of June 1, 2014 through September 29, 2015.

FOR FURTHER INFORMATION CONTACT: Carmelia Strickland, Director, Division of Program Operations, Administration for Native Americans, 370 L'Enfant Promenade SW., Washington, DC 20047. Telephone: 877-922-9262; Email: Carmelia.strickland@acf.hhs.gov.

SUPPLEMENTARY INFORMATION: Award funds will assist the tribe to rebuild tribal operations following a devastating flood that occurred in the spring and summer of 2013. On June 25, President Barack Obama issued a major disaster declaration for the State of Alaska (FEMA-4122-DR). The need for the award is documented through the Federal Emergency Management Agency reports that are available at http://www.fema.gov/disaster/4122. Of the 204 homes in the village, all but 9 were damaged.

Galena is a rural Athabascan village that has a population of 794 located on the Yukon River and is 400 miles from the nearest road system. Galena Village's governing body is the Louden Tribal Council and tribal members represent 75 percent of the population of the city of Galena.

Award funds for the 16-month project will address tribal governance needs, including the refurbishment of four tribal program offices, recovery and rebuilding of tribal records and data files, and re-establishing tribal communications and networking capacity by providing for the assistance of professional IT services. The tribe seeks to return to optimal operational capacity to allow for the timely and efficient delivery of services to its tribal members.

Statutory Authority: This program is authorized under § 803(a) of the Native American Programs Act of 1974 (NAPA), 42 U.S.C. 2991b.

Melody Wayland,
Senior Grants Policy Specialist, Division of Grants Policy, HHS/Administration for Children and Families.

[FR Doc. 2014-17011 Filed 7-18-14; 8:45 am]

BILLING CODE 4184-34-P